GENERAL SERVICES ADMINISTRATION

[Notice-MZ-2016-01; Docket No. 2016-0002; Sequence No. 18]

Notice of Public Meeting Concerning the Unified Shared Services Management Office, Update on the Federal Shared Services Ecosystem

AGENCY: Unified Shared Services Management Office, Office of Government-wide Policy (OGP), General Services Administration (GSA).

ACTION: Meeting notice.

SUMMARY: This meeting is intended to provide industry partners with an interactive overview of how the ecosystem for shared services is evolving in the Federal Government. This will also be an opportunity for the Government to hear feedback and best practices from industry. Industry partners that offer services and/or systems for the migration, and/or modernization, and/or operations and maintenance of mission support functions in the public and private sectors, are invited to attend.

DATES: Effective: July 13, 2016.

MEETING DATE AND LOCATION: This meeting will be held on Monday, August 22, 2016, from 1:00 p.m. until 4:30 p.m. Eastern Standard Time (EST), at the General Services Administration building, 1800 F Street NW., Washington, DC 20405.

FOR FURTHER INFORMATION CONTACT: Austin Price, Innovation Operations Manager, Unified Shared Services Management, 202-702-7962.

SUPPLEMENTARY INFORMATION: This event is hosted by the Unified Shared Service Management (USSM) office (www.ussm.gov), which was established in October of 2015 to enable the delivery of high-quality, high-value shared services that improve performance and efficiency throughout government.

This event is intended to provide industry partners with an interactive overview of how the ecosystem for shared services is evolving in the Federal Government. This will also be an opportunity for the Government to hear feedback and best practices from industry, particularly those outlined in OMB Memorandum 16-11, Improving Administrative Functions through Shared Services (https://www.whitehouse.gov/sites/default/files/omb/memoranda/2016/m-16-11.pdf). This event is not related to a specific RFI, RFP, or solicitation.

Industry partners that offer services and/or systems for the migration, and/or modernization, and/or operations and maintenance of mission support functions in the public and private sectors, are invited to attend. The specific focus will be on acquisition, financial management, grants management, human resources, travel, and the technology or services that support these functions.

Topics to be discussed include the following:

• Modernization and Migration Management (M3) Framework: A new framework, which includes a playbook and investment review process that agencies will follow when modernizing and/or migrating missions support functions. M3 is designed to help the government achieve successful outcomes and reduce risk during administrative system and service modernizations and migrations.

• ProviderStat: A performance framework for Shared Service Providers that drives achievement of goals by establishing an annual cycle, in which executives review data, assess performance, discuss progress, and determine corrective paths forward. This will include an annual customer satisfaction survey and the establishment of criteria for high performing providers.

• Acquisition Vision for the Ecosystem: A discussion of the existing acquisition environment, common acquisition challenges, and strategies for harnessing industry solutions and capabilities throughout the shared services lifecycle.

Participants should review the M3 Framework and other supporting materials about USSM initiatives prior to the event by visiting: https://www.ussm.gov.

Registration: Participants may register at: https://meet.gsa.gov/e4xy2fqjkl6/event/event_info.html.

Each company will be limited to two participants. Preference is for those individuals leading migrations and providing service delivery, as there will be breakout groups where USSM will be seeking industry thought leadership. Seating will be capped at 120 people on a first-come, first-served basis. Registrations must be completed by 5:00 p.m., EST on Monday, August 8, 2016.

Dated: July 7, 2016.
Troy Cribb,
Associate Administrator, Office of Government-wide Policy.

[FR Doc. 2016-16532 Filed 7-12-16; 8:45 am]

BILLING CODE 6820-14-P